DEPARTMENT OF TRANSPORTATION

Federal Aviation Administration

14 CFR Part 39

[Docket No. FAA-2020-0574; Product Identifier 2019-CE-015-AD]

RIN 2120-AA64

Airworthiness Directives; Aerostar Aircraft Corporation Airplanes

AGENCY: Federal Aviation Administration (FAA), DOT.

ACTION: Notice of proposed rulemaking (NPRM).

SUMMARY: The FAA proposes to adopt a new airworthiness directive (AD) for all Aerostar Aircraft Corporation Model PA-60-601P (Aerostar 601P), PA-60-602P (Aerostar 602P), and PA-60-700P (Aerostar 700P) airplanes. This proposed AD was prompted by reports of corrosion on the elevator and aileron balance tubes. This proposed AD would require repetitively inspecting the elevator and aileron balance tubes for corrosion and rust and replacing the tube. The FAA is issuing this proposed AD to address the unsafe condition on these products.

DATES: The FAA must receive comments on this proposed AD by August 10, 2020.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Aerostar Aircraft Corporation, 2265 West Aerostar Way, Hayden Lake, ID 83835; telephone: (208) 762-0338; fax: (208) 762-8349; internet: https://aerostaraircraft.com. You may view this service information at the FAA, You may review this referenced service information at the FAA, Airworthiness Products Section, Operational Safety Branch, 901 Locust, Kansas City, Missouri 64106. For information on the availability of this material at the FAA, call (816) 329-4148.

Examining the AD Docket

You may examine the AD docket on the internet at https://www.regulations.gov by searching for and locating Docket No. FAA-2020-0574; or in person at Docket Operations between 9 a.m. and 5 p.m., Monday through Friday, except Federal holidays. The AD docket contains this NPRM, any comments received, and other information. The street address for Docket Operations is listed above. Comments will be available in the AD docket shortly after receipt.

FOR FURTHER INFORMATION CONTACT: David Herron, Aerospace Engineer, Seattle ACO Branch, FAA, 2200 S 216th St, Des Moines, WA 98198; phone: (206) 231-3544; email: david.herron@faa.gov.

SUPPLEMENTARY INFORMATION:

Comments Invited

The FAA invites you to send any written relevant data, views, or arguments about this proposal. Send your comments to an address listed under the ADDRESSES section. Include “Docket No. FAA-2020-0574; Product Identifier 2019-CE-015-AD” at the beginning of your comments. The FAA specifically invites comments on the overall regulatory, economic, environmental, and energy aspects of this NPRM. The FAA will consider all comments received by the closing date and may amend this NPRM because of those comments.

The FAA will post all comments received, without change, to https://www.regulations.gov, including any personal information you provide. The FAA will also post a report summarizing each substantive verbal contact received about this NPRM.

Discussion

The FAA received reports of corrosion on the elevator and aileron balance tubes. Aerostar Aircraft Corporation (Aerostar) reported that, during repair of a Model PA-60-601P airplane, corrosion was found on the balance tubes used in the elevator and aileron systems. Corrosion on balance tubes in the elevator and aileron system may be hidden by rubber boots. These balance tubes counteract the effects of cabin pressurization. The majority of the Aerostar PA-60 airplane fleet have pressurized cabins. After the finding on the first airplane, Aerostar inspected four additional airplanes in the PA-60 fleet. Aerostar reported four out of these five airplanes had corrosion on both the aileron and elevator balance tubes. This condition, if not addressed, could result in failure of the aileron and elevator balance tubes. This failure could cause the aileron and/or elevator balance tubes to jam and result in loss of control of the airplane.

Related Service Information Under 1 CFR Part 51

The FAA reviewed Aerostar Service Bulletin SB600-138, dated August 30, 2018. The service bulletin contains procedures for repetitively inspecting the elevator and aileron balance tubes for corrosion and rust and replacing the tubes at a specified time and repetitively if necessary. This service information is reasonably available because the interested parties have access to it through their normal course of business or by the means identified in the ADDRESSES section.

FAA's Determination

The FAA is proposing this AD because it evaluated all relevant information and determined the unsafe condition described previously is likely to exist or develop in other products of the same type design.

Proposed AD Requirements

This proposed AD would require accomplishing the actions specified in the service information described previously.

Differences Between This Proposed AD and the Service Information

This proposed AD would not require completing the reply card and returning it to Aerostar as specified in Step 13 of Part II of the service information.

Costs of Compliance

The FAA estimates that this proposed AD affects 404 airplanes of U.S. registry.

The FAA estimates the following costs to comply with this proposed AD:

Estimated Costs
Action | Labor cost | Parts cost | Cost per product | Cost on U.S. operators
Inspect elevator and aileron balance tubes | 1 work-hour × $85 per hour = $85 per inspection cycle | Not Applicable | $85 per inspection cycle | $34,340 per inspection cycle.
Replace elevator and aileron balance tubes | 8 work-hours × $85 per hour = $680 | $1,187 | $1,867 | $754,268.

The FAA estimates the following costs to do any necessary replacements that would be required based on the results of the proposed repetitive inspections, assuming separate replacement intervals. The FAA has no way of determining the number of airplanes that might need these replacements:

On-Condition Costs
Action | Labor cost | Parts cost | Cost per product
Replace elevator balance tube | 8 work-hours × $85 per hour = $680 | $594 | $1,274
Replace aileron balance tube | 8 work-hours × $85 per hour = $680 | 594 | 1,274

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Aerostar Aircraft Corporation: Docket No. FAA-2020-0574; Product Identifier 2019-CE-015-AD.

(a) Comments Due Date

The FAA must receive comments by August 10, 2020.

(b) Affected ADs

None.

(c) Applicability

This AD applies to Aerostar Aircraft Corporation Model PA-60-601P (Aerostar 601P), PA-60-602P (Aerostar 602P), and PA-60-700P (Aerostar 700P) airplanes, all serial numbers, certificated in any category.

(d) Subject

Air Transport Association (ATA) of America Code 27; Flight Controls.

(e) Unsafe Condition

This AD was prompted by reports of corrosion on the elevator and aileron balance tubes. The FAA is issuing this AD to detect corrosion on the elevator and aileron balance tubes. The unsafe condition, if not addressed, could result in failure of the aileron and elevator balance tubes, jamming of the aileron and/or elevator balance tubes, and loss of control of the airplane.

(f) Compliance

Comply with this AD within the compliance times specified, unless already done.

(g) Repetitive Inspections

Within 10 hours time-in-service after the effective date of this AD, inspect the elevator and aileron balance tubes for corrosion (pitting and flaking) and rust (discoloration) by following steps 1. through 3. of Part I (Inspection) of the Instructions in Aerostar Aircraft Corporation Service Bulletin SB600-138, dated August 30, 2018 (Aerostar SB600-138). For each tube replaced as required by paragraph (h) of this AD, using a borescope, repeat the inspection within 10 years after replacing the tube and thereafter as follows:

(1) At intervals not to exceed 10 years as long as no rust is found.

(2) At intervals not to exceed 2 years if only rust is found (without any signs of corrosion).

(h) Replacements

At the following compliance times, replace each elevator and aileron balance tube by following Part II (Replacement) of the Instructions in Aerostar SB600-138, except you are not required to report information to the manufacturer:

(1) Before further flight if corrosion or rust is found (inside or outside the tubes) during the initial inspection required by paragraph (g) of this AD.

(2) At the next 100-hour inspection or at the next annual inspection, whichever occurs first, if no corrosion and no rust is found (inside or outside the tubes) during the initial inspection required by paragraph (g) of this AD.

(3) Before further flight if corrosion is found (inside or outside the tubes) during any repetitive inspection required by paragraph (g) of this AD.

(i) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD. Information may be emailed to: 9-ANM-Seattle-ACO-AMOC-Requests@faa.gov.

(2) Before using any approved AMOC, notify your appropriate principal inspector, or lacking a principal inspector, the manager of the local flight standards district office/certificate holding district office.

(j) Related Information

(1) For more information about this AD, contact David Herron, Aerospace Engineer, Seattle ACO Branch, FAA, 2200 S 216th St., Des Moines, WA 98198; phone: (206) 231-3544; email: david.herron@faa.gov.

(2) For service information identified in this AD, contact Aerostar Aircraft Corporation, 2265 West Aerostar Way, Hayden Lake, ID 83835; telephone: (208) 762-0338; fax: (208) 762-8349; internet: https://aerostaraircraft.com. You may view this service information at the FAA, You may review this referenced service information at the FAA, Airworthiness Products Section, Operational Safety Branch, 901 Locust, Kansas City, Missouri 64106. For information on the availability of this material at the FAA, call (816) 329-4148.

Issued on June 17, 2020.
Lance T. Gant,
Director, Compliance & Airworthiness Division, Aircraft Certification Service.

[FR Doc. 2020-13662 Filed 6-25-20; 8:45 am]

BILLING CODE 4910-13-P